DEPARTMENT OF ENERGY

Federal Energy Regulatory Commission

[Docket No. IC00-574-001, FERC-574]

Information Collection Submitted for Review and Request for Comments

September 24 , 2001.

AGENCY: Federal Energy Regulatory Commission, DOE.

ACTION: Notice of submission for review of the Office of Management and Budget (OMB) and request for comments.

SUMMARY: The Federal Energy Regulatory Commission (Commission) has submitted the energy information collection listed in this notice to the Office of Management and Budget (OMB) for review under the provisions of Section 3507 of the Paperwork Reduction Act of 1995 (Pub. L. 104-13). Any interested person may file comments on the collection of information directly with OMB and should address a copy of those comments to the Commission as explained below. The Commission did not receive any comments in response to an earlier Federal Register notice of April 19, 2001 (66 FR 20143) and has made a notation in this submission.

DATES: Comments regarding this collection are best assured of having their full effect if received on or before October 24, 2001.

ADDRESSES: Address comments to the Office of Management and Budget, Office of Information and Regulatory Affairs, Attention: Federal Energy Regulatory Commission Desk Officer, 725 17th Street, NW., Washington DC 20503. A copy of the comments should also be sent to Federal Energy Regulatory Commission, Office of the Chief Information Officer, Attention: Mr. Michael Miller, CI-1, 888 First Street NE., Washington, DC 20426. Mr. Miller may be reached by telephone at (202)208-1415, by fax at (202)208-2425, and by e-mail at mike.miller@ferc.fed.us.

SUPPLEMENTARY INFORMATION:

Description

The energy information collection submitted to OMB for review contains:

1. Collection of Information: FERC-574 “Gas Pipeline Certificates: Hinshaw Exemption”

2. Sponsor: Federal Energy Regulatory Commission.

3. Control No.: 1902-0116. The Commission is requesting a three-year extension of the current expiration date (November 30, 2001) with no changes to the existing collections of data. This is a mandatory information collection requirement.

4. Necessity of Collection of Information: Submission of the information is necessary to enable the Commission to carry out its responsibilities in implementing provisions of Section 1(c), 4, 7, 10(a) and 16 of the Natural Gas Act (NGA). Natural gas pipeline companies file applications with the Commission furnishing information in order for a determination to be made as to whether the applicant qualifies for an exemption from the provisions of the Natural Gas Act (Section 1(c)).

The exemption applies to the companies engaged in the transportation or sale for resale of natural gas in interstate commerce if: (a) It receives gas at or within the boundaries of the state from another person; (b) such gas is transported, sold, consumed within such state; and (c) the rates, service and facilities of such company are subject to regulation by a State Commission. The data required to be filed by pipeline companies is specified by 18 Code of Federal Regulations (CFR) Part 152.

5. Respondent Description: The respondent universe currently comprises on average approximately one natural gas pipeline company.

6. Estimated Burden: 245 total burden hours, 1 respondent, 1 response annually, 245 hours per response.

Authority: Sections 1(c) 4, 7, 10(a) and 16 of the NGA(15 U.S.C. 717-717w).

David P. Boergers,
Secretary.

[FR Doc. 01-24297 Filed 9-27-01; 8:45 am]

BILLING CODE 6717-01-P